DEPARTMENT OF EDUCATION

National Assessment Governing Board; Meeting

AGENCY: National Assessment Governing Board; Education.

ACTION: Notice of open meeting and partially closed meeting.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (i.e., interpreting services, assistive listening devices, materials in alternative format) should notify Munira Mwalimu at 202-357-6938 or at Munira. Mwalimu@ed.gov no later than February 25, 2006. We will attempt to meet requests after this date, but cannot guarantee availability of the requested accommodation. The meeting site is accessible to individuals with disabilities.

DATES: March 2-4, 2006.

Times

March 2

Committee Meetings: Ad Hoc Committee on Planning for NAEP 12th Grade Assessments in 2009: Open Session—12 p.m. to 2 p.m.;

Reporting and Dissemination Committee: Open Session—2 p.m. to 4 p.m.;

Executive Committee: Open Session—4:30 p.m. to 5:15 p.m.; Closed Session 5:15 p.m. to 6:15 p.m.

March 3

Full Board: Open Session—8:30 a.m. to 4:15 p.m.

Committee Meetings: Assessment Development Committee: Open Session—10 a.m. to 12:30 p.m.;

Committee on Standards, Design, and Methodology: Open Session—10 a.m. to 12:30 p.m.;

Reporting and Dissemination Committee: Open Session—10 a.m. to 12:30 p.m.;

March 4

Nominations Committee: Closed Session—7:45 a.m to 8:45 a.m.

Full Board: Open Session—9 a.m. to 12 p.m.

Location: St. Regis Hotel San Francisco, 125 Third Street, San Francisco, CA 94103.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

The Ad Hoc Committee on Planning for NAEP 12th Grade Assessments in 2009 will meet in open session on March 2 from 12 p.m. to 2 p.m. and the Reporting and Dissemination Committee will meet in open session from 2 p.m. to 4 p.m. Thereafter, the Executive Committee will meeting open session on from 4:30 p.m. to 5:15 p.m.

The Executive Committee will meet in closed session on March 2, 2006, from 5:15 p.m. to 6:15 p.m. From 5:15 p.m. to 5:45 p.m., the Committee will receive independent government cost estimates from the Associate Commissioner, National Center for Education Statistics, for options affecting current and planned operations under current contracts due to the one percent reduction in the NAEP budget in FY 2006. From 5:45 p.m. to 6:15 p.m. the Associate Commissioner will present additional independent cost estimates for newly proposed activities under current contracts including item development for the science assessment, bridge studies, and validity research. The discussion of independent government cost estimates prior to decision making on which projects to approve is necessary so that NAEP contracts meet congressionally mandated goals and adhere to Board policies on NAEP assessments. This part of the meeting must be conducted in closed session because public disclosure of this information would likely have an adverse financial effect on the NAEP program and will provide an advantage to potential bidders attending the meeting. The discussion of this information would be likely to significantly impede implementation of a proposed agency action if conducted in open session. Such matters are protected by exemption 9(B) of section 552b(c) of Title 5 U.S.C.

On March 3, the full Board will meet in open session from 8:30 a.m. to 4:15 p.m. From 8:30 a.m. to 9:45 a.m. the Board will approve the agenda, introduce and administer the oath of office to a new Board member, receive the Executive Director's report, and hear an update on the work of the National Center for Education Statistics (NCES).

From 10 a.m. to 12:30 p.m. on March 3, the Board's standing committees—the Assessment Development Committee; the Committee on Standards, Design, and Methodology; and the Reporting and Dissemination Committee—will meet in open session.

From 12:30 p.m. to 1:45 p.m., the full Board will discuss inclusion and accommodations in NAEP, followed by discussion and action on the NAEP 2009 Science Specifications from 1:45 p.m. to 3 p.m.

On March 3, from 3:15 p.m. to 4:15 p.m. the Board will hear a presentation on revisions to the NAEP 12th Grade Mathematics Objectives upon which the March 3 session of the Board meeting will conclude.

On March 4, 2006 the Nomination Committee will meet in closed session from 7:45 a.m. to 8:45 a.m. to discuss nominations for Board vacancies. This discussion pertains solely to internal personnel rules and practices of an agency and will disclose information of a personal nature where disclosure would constitute an unwarranted invasion of personal privacy. As such, the discussions are protected by exemptions 2 and 6 of section 552b(c) of Title 5 U.S.C.

The full Board will convene in open session from 9 a.m. to 12 p.m. At 9 a.m., the Board will receive a briefing on the National Assessment of Adult Literacy with a discussion on lessons for NAEP. Board actions on policies and Committee reports are scheduled to take place between 10:15 a.m. and 12 p.m., upon which the March 4, 2006 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. eastern standard time.

Dated: February 13, 2006.
Charles E. Smith,
Executive Director, National Assessment Governing Board.

[FR Doc. 06-1445 Filed 2-15-06; 8:45 am]

BILLING CODE 4000-01-M